DEPARTMENT OF LABOR

Employment and Training Administration

[NAFTA-3369]

Superior-Essex, Pauline, KS; Notice of Affirmative Determination Regarding Application for Reconsideration

By letter of February 25, 2000, the United Steelworkers of America (USWA) request administrative reconsideration of the Department of Labor's Notice of Negative Determination Regarding Eligibility to Apply for North American Free Trade Agreement—Transitional Adjustment Assistance (NAFTA-TAA) for workers of the subject firm. The denial notice was signed January 14, 2000, and published in the Federal Register on February 4, 2000 (FR 65 5691).

The USWA acknowledges that the subject firm is not shifting production of copper building wire to Mexico, but states that the production of copper rod has been shifted from the Pauline, Kansas plant of Superior-Essex to Mexico.

Conclusion

After careful review of the application, I conclude that the claim is of sufficient weight to justify reconsideration of the Department of Labor's prior decision. The application is, therefore, granted.

Signed at Washington, DC this 20th day of March 2000.
Grant D. Beale,
Program Manager, Division of Trade Adjustment Assistance.

[FR Doc. 00-7480 Filed 3-24-00; 8:45 am]

BILLING CODE 4510-30-M